DEPARTMENT OF ENERGY

Federal Energy Regulatory Commission

Notice of Filings

September 9, 2009.

Take notice that the Commission received the following electric rate filings:

Docket Numbers: ER05-717-012, ER05-721-012, ER04-374-013, ER06-230-009, ER07-810-007, ER08-237-007, ER08-1172-006, ER09-430-003, ER09-429-003, ER99-2341-015, ER06-1334-009, ER07-277-008, ER09-946-002.

Applicants: Spring Canyon Energy LLC, Judith Gap Energy LLC; Invenergy TN LLC; Wolverine Creek Energy LLC; Grays Harbor Energy LLC; Forward Energy LLC; Grand Ridge Energy LLC; Willow Creek Energy LLC; Sheldon Energy LLC; Hardee Power Partners Limited; Spindle Hill Energy LLC; Invenergy Cannon Falls LLC; Beech Ridge Energy LLC.

Description: Spring Canyon Energy, LLC et al. submits notification of change in facts under market-based rate authority.

Filed Date: 09/04/2009.

Accession Number: 20090908-0074.

Comment Date: 5 p.m. Eastern Time on Friday, September 25, 2009.

Docket Numbers: ER06-215-002; ER06-686-002; ER06-222-002; ER06-225-002; ER06-223-002; ER06-221-002; ER06-224-002; ER06-220-002.

Applicants: DeGreeffpa, LLC; DeGreeff DP, LLC; Groen Wind, LLC: Hillcrest Wind, LLC; Larswind, LLC; Sierra Wind, LLC; TAIR Windfarm, LLC; Bendwind, LLC.

Description: Bendwind, LLC, et al. Supplement to June 30, 2009 Notice of Category 1 Seller Status and Compliance Filing, et al.

Filed Date: 08/28/2009.

Accession Number: 20090828-5083.

Comment Date: 5 p.m. Eastern Time on Friday, September 18, 2009.

Docket Numbers: ER07-509-002.

Applicants: California Power Holdings, LLC.

Description: California Power Holdings submits amendment to market-based rate tariff.

Filed Date: 09/04/2009.

Accession Number: 20090904-0153.

Comment Date: 5 p.m. Eastern Time on Friday, September 25, 2009.

Docket Numbers: ER09-1141-004.

Applicants: J.P. Morgan Commodities Canada Corporation.

Description: JP Morgan Commodities Canada Corporation submits revised tariff sheets accepting JPMCCC's petition for acceptance of initial tariff, waivers and blanket authority.

Filed Date: 09/04/2009.

Accession Number: 20090904-0155.

Comment Date: 5 p.m. Eastern Time on Friday, September 25, 2009.

Docket Numbers: ER09-1307-001.

Applicants: EnergyConnect, Inc.

Description: EnergyConnect, Inc submits additional information that constitutes as an amendment to its 6/16/09 application.

Filed Date: 09/08/2009.

Accession Number: 20090908-0063.

Comment Date: 5 p.m. Eastern Time on Tuesday, September 29, 2009.

Docket Numbers: ER09-1541-001.

Applicants: MidAmerican Energy Company.

Description: MidAmerican Energy Company submits a replacement Affected System Engineering and Procurement Agreement.

Filed Date: 09/04/2009.

Accession Number: 20090904-0158.

Comment Date: 5 p.m. Eastern Time on Friday, September 25, 2009.

Docket Numbers: ER09-1678-000.

Applicants: KCP&L Greater Missouri Operations Company.

Description: KCP&L Greater Missouri Operations Company submits proposed amendments to OATT to consolidate transmission service offerings under a single tariff et al.

Filed Date: 09/04/2009.

Accession Number: 20090904-0154.

Comment Date: 5 p.m. Eastern Time on Friday, September 25, 2009.

Docket Numbers: ER09-1679-000.

Applicants: NorthWestern Corporation.

Description: NorthWestern Corporation submits Electric Interconnection Services Agreement between NorthWestern Corporation and Vigilante Electric Cooperative.

Filed Date: 09/04/2009.

Accession Number: 20090904-0156.

Comment Date: 5 p.m. Eastern Time on Friday, September 25, 2009.

Docket Numbers: ER09-1680-000.

Applicants: NorthWestern Corporation.

Description: NorthWestern Corporation submits electric Interconnection Services Agreement between NorthWestern Corporation and Southern Electric Generation and Transmission Cooperative.

Filed Date: 09/04/2009.

Accession Number: 20090904-0157.

Comment Date: 5 p.m. Eastern Time on Friday, September 25, 2009.

Docket Numbers: ER09-1681-000.

Applicants: California Independent System Operator Corporation.

Description: California Independent System Operator Corporation submits amendment to the ISO tariff to reduce the maximum unsecured credit limit for market participants.

Filed Date: 09/04/2009.

Accession Number: 20090908-0075.

Comment Date: 5 p.m. Eastern Time on Friday, September 25, 2009.

Docket Numbers: ER09-1682-000.

Applicants: New York Independent System Operator, Inc.

Description: New York Independent System Operator, Inc. submits filing requesting authority to prospectively apply new mitigation rules to three specifically identified generators, etc.

Filed Date: 09/04/2009.

Accession Number: 20090908-0076.

Comment Date: 5 p.m. Eastern Time on Friday, September 25, 2009.

Docket Numbers: ER09-1683-000.

Applicants: Ameren Services Company.

Description: Ameren Services Company submits Transmission Upgrade Agreement between AmerenCIPS, Ameren Energy Marketing Company, Dynegy Midwest Generation, Inc.

Filed Date: 09/08/2009.

Accession Number: 20090908-0060.

Comment Date: 5 p.m. Eastern Time on Tuesday, September 29, 2009.

Docket Numbers: ER98-1643-014.

Applicants: Portland General Electric Company.

Description: Notification of change in status of Portland General Electric Company.

Filed Date: 09/04/2009.

Accession Number: 20090904-5105.

Comment Date: 5 p.m. Eastern Time on Friday, September 25, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-22724 Filed 9-21-09; 8:45 am]

BILLING CODE 6717-01-P